DEPARTMENT OF THE INTERIOR

National Park Service

National Park Of American Samoa Federal Advisory Commission; Notice of Meeting

Notice is given in accordance with the Federal Advisory Committee Act that a meeting of the National Park of American Samoa Federal Advisory Commission will be held from 10 a.m. to 4 p.m., Monday, July 31, 2000, at the Afono village malae, Afono, American Samoa.

The agenda for the meeting will include:

Welcome and introductions

Review and approval of bylaws

Superintendents report and discussion

National Geographic Article on Park

Discussion of park related tourism

Other Board issues

Public comments

The meeting is open to the public and opportunity will be provided for public comments prior to closing the meeting. The meeting will be recorded for documentation and transcribed for dissemination. Minutes of the meeting will be available to the public after they have been approved by the full Advisory Commission. For copies of the minutes, contact the National Park of American Samoa Superintendent at 011 (684) 633-7082.

Dated: June 25, 2000.
Charles Cranfield,
Superintendent National Park of American Samoa.

[FR Doc. 00-17428 Filed 7-10-00; 8:45 am]

BILLING CODE 4310-70-P